DEPARTMENT OF COMMERCE

National Oceanic and Atmospheric Administration

RIN 0648-XX69

Marine Mammals; File Nos. 13846 and 14353

AGENCY: National Marine Fisheries Service (NMFS), National Oceanic and Atmospheric Administration (NOAA), Commerce.

ACTION: Notice; issuance of permit amendments.

SUMMARY: Notice is hereby given that Jim Darling, Ph.D., Whale Trust, P.O. Box 384, Tofino, BC, V0R2Z0, Canada, and Ann Zoidis, Cetos Research Organization, 11 Des Isle Ave Bar Harbor, ME 04609, have been issued minor amendments to Scientific Research Permit Nos. 13846 and 14353, respectively.

ADDRESSES: The amendments and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Rosa L. González or Carrie Hubard, (301) 427-8401.

SUPPLEMENTARY INFORMATION: The requested amendments have been granted under the authority of the Marine Mammal Protection Act of 1972, as amended (16 U.S.C. 1361 et seq.) and the regulations governing the taking and importing of marine mammals (50 CFR part 216), the Endangered Species Act of 1973, as amended (ESA; 16 U.S.C. 1531 et seq.), and the regulations governing the taking, importing, and exporting of endangered and threatened species (50 CFR parts 222-226).

Permit No. 13846 was issued on July 14, 2010 (75 FR 43150) and subsequently amended on December 20, 2012, May 9, 2013 (78 FR 30872), October 23, 2013, and December 2, 2014. It authorizes Dr. Darling to study humpback whales (Megaptera novaeangliae) in Hawaii (primarily off west Maui) and humpback and Eastern gray (Eschrichtius robustus) whales off Washington and Alaska through July 31, 2015. Research activities can occur from a variety of platforms (vessel, aerial, and underwater) and include photo-identification, passive acoustic recording, behavioral observation, videorecording, collection of sloughed skin, photogrammetry, biopsy sampling, playback experiments, and suction cup and implantable tagging of target whales. The permit also authorizes incidental harassment of other cetacean and pinniped species. On May 19, 2015, a minor amendment (No. 13846-05) was issued that extends the duration of the permit through July 31, 2016, but does not change any other terms or conditions of the permit.

Permit No. 14353 was issued to Ann Zoidis on July 14, 2010 (75 FR 43150) and subsequently amended on May 9, 2013 (78 FR 30872). It authorizes scientific research on humpback and minke (Balaenoptera acutorostrata) whales in Hawaiian waters through July 31, 2015. Research activities include photo-identification, behavioral observations, passive acoustic recording, underwater photo/videography, and suction cup tagging. A minor amendment (No. 14353-02) was issued on May 4, 2015 that extends the duration of the permit through July 31, 2016, but does not change any other terms or conditions of the permit.

Dated: June 16, 2015.
Julia Harrison,
Chief, Permits and Conservation Division, Office of Protected Resources, National Marine Fisheries Service.

[FR Doc. 2015-15204 Filed 6-19-15; 8:45 am]

BILLING CODE 3510-22-P